DEPARTMENT OF DEFENSE

Office of the Secretary

Defense Business Board; Notice of Advisory Committee Meeting Cancellation

AGENCY: Department of Defense.

ACTION: Notice of meeting cancellation.

SUMMARY: On September 20, 2006, the Department of Defense published a notice of meeting (71 FR 54980) scheduled for September 28, 2006. Due to inability to achieve a quorum the meeting was cancelled. This notice announces the cancellation. This meeting may be rescheduled and announced at a later date.

FOR FURTHER INFORMATION CONTACT: Kelly Van Niman, Executive Director, DBB, 703-697-2346 or Kelly.vanniman@osd.mil.

Dated: September 21, 2006.
C.R. Choate,
Alternate OSD Federal Register Liaison Officer, Department of Defense.

[FR Doc. 06-8290 Filed 9-26-06; 8:45 am]

BILLING CODE 5001-06-M